DEPARTMENT OF COMMERCE

Performance Review Board Membership

AGENCY: Economics and Statistics Administration, Department of Commerce.

ACTION: Performance Review Board Membership.

SUMMARY: Below is a listing of individuals who are eligible to serve on the Performance Review Board in accordance with the Economics and Statistics Administration's Senior Executive Service and Senior Professional Performance Management Systems:

Shirin Ahmed

Ana Aizcorbe

Teresa Angueira

William Bell

Lisa Blumerman

William G. Bostic, Jr.

Brian Callahan

Douglas Clift

Carl E. Cox

Dennis J. Fixler

Paul Friday

Nancy M. Gordon

David Hackbarth

Francis Grailand Hall

Howard Hogan

Enrique Lamas

J. Steven Landefeld

Cheryl Landman

Arnold A. Jackson

Ron Jarmin

David Johnson

Theodore A. Johnson

Ruth Ann Killion

Cheryl Landman

Dr. Jennifer Madans

Rosemary D. Marcuss

Marilia Matos

Jeffrey Mayer

Thomas L. Mesenbourg, Jr.

Jane W. Molloy

Brian Monaghan

C. Harvey Monk

Brent R. Moulton

Andrew Moxam

Brian C. Moyer

Carol E. Moylan

Joel D. Platt

Michael Palensky

Nancy Potok

Susan Schechter Bortner

James Tyler, Jr.

Frank Vitrano

Mark Wallace

Daniel Weinberg

Obie G. Whichard

David Whitford

James K. White

Tommy Wright

Thomas Zabelsky

FOR FURTHER INFORMATION CONTACT: Latasha Ellis, 301-763-3727.

Dated: September 9, 2009.
James K. White,
Associate Under Secretary for Management Chair, Performance Review Board.

[FR Doc. E9-22549 Filed 9-17-09; 8:45 am]

BILLING CODE 3510-BS-P